DEPARTMENT OF HEALTH AND HUMAN SERVICES

Centers for Disease Control and Prevention

[30Day-23-22GR]

Agency Forms Undergoing Paperwork Reduction Act Review

In accordance with the Paperwork Reduction Act of 1995, the Centers for Disease Control and Prevention (CDC) has submitted the information collection request titled “CDC's Milestone Tracker App User Surveys” to the Office of Management and Budget (OMB) for review and approval. CDC previously published a “Proposed Data Collection Submitted for Public Comment and Recommendations” notice on July 12, 2022 to obtain comments from the public and affected agencies. CDC did not receive comments related to the previous notice. This notice serves to allow an additional 30 days for public and affected agency comments.

CDC will accept all comments for this proposed information collection project. The Office of Management and Budget is particularly interested in comments that:

(a) Evaluate whether the proposed collection of information is necessary for the proper performance of the functions of the agency, including whether the information will have practical utility;

(b) Evaluate the accuracy of the agencies estimate of the burden of the proposed collection of information, including the validity of the methodology and assumptions used;

(c) Enhance the quality, utility, and clarity of the information to be collected;

(d) Minimize the burden of the collection of information on those who are to respond, including, through the use of appropriate automated, electronic, mechanical, or other technological collection techniques or other forms of information technology, e.g., permitting electronic submission of responses; and

(e) Assess information collection costs.

To request additional information on the proposed project or to obtain a copy of the information collection plan and instruments, call (404) 639-7570. Comments and recommendations for the proposed information collection should be sent within 30 days of publication of this notice to www.reginfo.gov/public/do/PRAMain. Find this particular information collection by selecting “Currently under 30-day Review—Open for Public Comments” or by using the search function. Direct written comments and/or suggestions regarding the items contained in this notice to the Attention: CDC Desk Officer, Office of Management and Budget, 725 17th Street NW, Washington, DC 20503 or by fax to (202) 395-5806. Provide written comments within 30 days of notice publication.

Proposed Project

CDC's Milestone Tracker App User Surveys—New—National Center on Birth Defects and Developmental Disabilities (NCBDDD), Centers for Disease Control and Prevention (CDC).

Background and Brief Description

CDC's Learn the Signs. Act Early. (LTSAE) program promotes family-engaged developmental monitoring of children and aims to improve early identification of autism and other developmental disabilities so that children and families receive the services and support they need. LTSAE encourages families and early childhood providers/professionals (e.g., doctors, therapists, childcare, etc.) to learn the signs of healthy development, monitor every child's early development, and act when there is a concern.

The Milestone Tracker application (app) serves as a developmental monitoring, health education, and communication tool that facilitates developmental monitoring with interactive, illustrated, age-specific developmental milestone checklists for children ages two months—five years. The mobile app is available in both English and Spanish on Android and iPhone devices. The app provides families and early childhood providers/professionals with checklists, summaries of a child's development, activities to support development, tips if there are concerns, and appointment reminders.

The Milestone Tracker app was first deployed in 2017 and as of October 2022 had been downloaded over 1.5 million times. However, no information has been collected on users' experience with the app or actions taken after interaction with the app. The goal of this project is to evaluate CDC's Milestone Tracker mobile app by assessing user satisfaction, usage patterns, and actions taken after a missed developmental milestone or developmental concern is identified. The evaluation will consist of three brief web surveys at three distinct times during the app user experience.

First, all parents (or guardians) who download the app will be asked to complete the Milestone Tracker App Parent Survey 1. This survey requests information about whether a child has missed a developmental milestone, whether the parent has shared information about a child's developmental milestones with anyone, the parent's overall perceptions of the app, and how the parent plans to use the app. The estimated number of respondents is 200,000 per year and the estimated burden per response is five minutes. If a parent indicates that their child has missed a developmental milestone or has a developmental concern, the parent will be invited to complete the Milestone Tracker App Parent Survey 2. Because parents who download the app are more likely to have concerns about a child's development than parents in the general U.S. population, for purposes of burden calculation CDC is also estimating up to 200,000 responses per year to Parent Survey 2. The second survey requests information about actual usage of the app and outcomes of sharing information about the child's developmental milestones (e.g., referral to diagnostic testing or educational support services). The estimated burden per response is five minutes.

The third survey is for providers that use the app, e.g., health care providers or specialists in early childhood education. Information will be collected about how they use the app and their satisfaction with it. The estimated number of annualized responses is 100,000 and the estimated burden per response is five minutes.

The objectives of these three short surveys are to understand how the app is being used, if users like the app/find it helpful, if the app helped them to identify a possible developmental concern, if they plan to use it again, and what actions are taken after a missed developmental milestone or developmental concern is identified (e.g., talk to doctor, talk to family/friends, referral to specialist, etc.).

OMB approval is requested for three years. Participation is voluntary and there are no costs to respondents other than their time. The total estimated annualized burden is 41,667 hours.

Estimated Annualized Burden Hours
Type of respondents | Form name | Number of respondents | Number responses per respondent | Average burden per response (in hours)
All parents using the Milestone tracker app | Milestone Tracker App Parent Survey 1 | 200,000 | 1 | 5/60
Parents using the Milestone Tracker App who have missed a milestone or identified a developmental concern | Milestone Tracker App Parent Survey 2 | 200,000 | 1 | 5/60
Providers who use the Milestone Tracker App | Provider Survey | 100,000 | 1 | 5/60

Jeffrey M. Zirger,
Lead, Information Collection Review Office, Office of Scientific Integrity, Office of Science, Centers for Disease Control and Prevention.

[FR Doc. 2023-02951 Filed 2-9-23; 8:45 am]

BILLING CODE 4163-18-P